NUCLEAR REGULATORY COMMISSION

[Docket No. 72-1051-ISFSI; ASLBP No. 19-959-01-ISFSI-BD01]

Establishment of Atomic Safety and Licensing Board: Interim Storage Partners LLC

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

Interim Storage Partners LLC

(WCS Consolidated Interim Storage Facility)

This proceeding involves an application from Interim Storage Partners LLC for a license to construct and operate a Consolidated Interim Storage Facility on its approximately 14,900-acre site in western Andrews County, Texas. In response to a notice published in the Federal Register announcing the opportunity to request a hearing, see 83 FR 44,070 (Aug. 29, 2018), multiple requests for hearing have been filed.

The Board is comprised of the following Administrative Judges:

• Paul S. Ryerson, Chairman, Atomic Safety and Licensing Board Panel, U.S. Nuclear Regulatory Commission, Washington, DC 20555-0001.

• Nicholas G. Trikouros, Atomic Safety and Licensing Board Panel, U.S. Nuclear Regulatory Commission, Washington, DC 20555-0001.

• Dr. Gary S. Arnold, Atomic Safety and Licensing Board Panel, U.S. Nuclear Regulatory Commission, Washington, DC 20555-0001.

All correspondence, documents, and other materials shall be filed in accordance with the NRC E-Filing rule. See 10 CFR 2.302.

Dated: November 16, 2018, in Rockville, Maryland.
Edward R. Hawkens,
Chief Administrative Judge, Atomic Safety and Licensing Board Panel.

[FR Doc. 2018-25453 Filed 11-21-18; 8:45 am]

BILLING CODE 7590-01-P